DEPARTMENT OF COMMERCE

National Oceanic and Atmospheric Administration

RIN 0648-XA395

Marine Mammals and Endangered Species; File Nos. 15415 and 14622

AGENCY: National Marine Fisheries Service (NMFS), National Oceanic and Atmospheric Administration (NOAA), Commerce.

ACTION: Notice; issuance of permits.

SUMMARY: Notice is hereby given that NMFS has issued two permits to conduct research on marine mammals or sea turtles. See SUPPLEMENTARY INFORMATION for additional information regarding permittees.

ADDRESSES: The permits and related documents are available for review upon written request or by appointment in the following offices:

Permits, Conservation and Education Division, Office of Protected Resources, NMFS, 1315 East-West Highway, Room 13705, Silver Spring, MD 20910; phone (301)713-2289; fax (301)713-0376;

Northeast Region, NMFS, 55 Great Republic Drive, Gloucester, MA 01930; phone (978)281-9328; fax (978)281-9394; and

Southeast Region, NMFS, 263 13th Avenue South, Saint Petersburg, FL 33701; phone (727)824-5312; fax (727)824-5309.

FOR FURTHER INFORMATION CONTACT: The following Amy Hapeman or Kristy Beard at (301)713-2289.

SUPPLEMENTARY INFORMATION: On December 10, 2010, notice was published in the Federal Register (75 FR 76956) that a request for a permit to conduct research on North Atlantic right whales (Eubalaena glacialis) had been submitted by Scott D. Kraus, Ph.D. [File No. 15415]. On March 4, 2010, notice was published in the Federal Register (75 FR 9868) that a request for a permit to conduct research on green (Chelonia mydas), hawksbill (Eretmochelys imbricata), Kemp's ridley (Lepidochelys kempii), and loggerhead (Caretta caretta) sea turtles had been submitted by Allen Foley [File No. 14622]. The requested permits have been issued under the following authorities as applicable: the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226). Scott Kraus, Ph.D. [File No. 15415], New England Aquarium Edgerton Research Laboratory, Central Wharf, Boston, MA 02110, was issued a three-year permit to study North Atlantic right whales along the U.S. East Coast from New York Harbor to the Maine-Canada border. Dr. Kraus is authorized to conduct control and experimental visual trials to determine if right whales are responsive to various color and light characteristics. Dr. Kraus is authorized to closely approach whales by vessel for photo-identification, observation, and monitoring during trials. The research would seek to determine whether the sensory and behavioral capabilities of right whales can be used to avoid entanglements at depth and in conditions of poor visibility.

Allen Foley [File No. 14622], Florida Fish and Wildlife Conservation Commission, Fish and Wildlife Research Institute, 370 Zoo Parkway, Jacksonville, FL 32218, was issued a five-year permit to: (1) Monitor the abundance of loggerhead and green sea turtles; (2) characterize the aggregations of loggerhead, Kemp's ridley, and hawksbill sea turtles; and (3) determine the movements, behaviors, habitat-use, and reproductive status of loggerhead sea turtles in Florida Bay and the Everglades National Park. Researchers are authorized to approach green sea turtles during non-linear transect surveys and hand capture loggerhead, Kemp's ridley, and hawksbill sea turtles during capture-mark-recapture studies. Captured turtles would be examined, measured, photographed, weighed, flipper tagged, passive integrated transponder tagged, marked with paint, and blood sampled to determine and monitor sex ratios, genetic identities, health and reproductive status, growth, and subsequent movements and behaviors. A subset of animals would receive: skin and carapace sampling, a satellite transmitter attachment, ultrasound and/or laparoscopy and organ sampling before release.

In compliance with the National Environmental Policy Act of 1969 (42 U.S.C. 4321 et seq.), environmental assessments (EAs) were prepared analyzing the effects of the permitted activities on the human environment. Based on the analyses in the EAs, NMFS determined that issuance of the permits would not significantly impact the quality of the human environment and that preparation of an environmental impact statement was not required. That determination is documented in Findings of No Significant Impact (FONSI) for these actions.

As required by the ESA, issuance of the permits were based on a finding that such permits: (1) Were applied for in good faith; (2) will not operate to the disadvantage of such endangered species; and (3) are consistent with the purposes and policies set forth in section 2 of the ESA.

Dated: April 21, 2011.
P. Michael Payne,
Chief, Permits, Conservation and Education Division, Office of Protected Resources, National Marine Fisheries Service.

[FR Doc. 2011-10175 Filed 4-26-11; 8:45 am]

BILLING CODE 3510-22-P